INTERNATIONAL TRADE COMMISSION

[Investigation Nos. 731-TA-671-673 (Third Review)]

Silicomanganese From Brazil, China, and Ukraine

Determinations

On the basis of the record ¹ developed in the subject five-year reviews, the United States International Trade Commission (Commission) ² determines, pursuant to section 751(c) of the Tariff Act of 1930 (19 U.S.C 1675(c)), that revocation of the antidumping duty order on silicomanganese from Brazil would not be likely to lead to continuation or recurrence of material injury to an industry in the United States within a reasonably foreseeable time ³ and that revocation of the antidumping duty orders on silicomanganese from China and Ukraine would be likely to lead to continuation or recurrence of material injury to an industry in the United States within a reasonably foreseeable time.⁴

¹ The record is defined in sec. 207.2(f) of the Commission's Rules of Practice and Procedure (19 CFR 207.2(f)).

² Commissioner Meredith Broadbent did not participate in these reviews.

³ Commissioner Dean A. Pinkert dissenting.

⁴ Commissioner Daniel R. Pearson dissenting with regard to Ukraine.

Background

The Commission instituted these reviews on August 1, 2011 (76 FR 54272) and determined on November 4, 2011 that it would conduct full reviews (76 FR 72212, November 22, 2011). Notice of the scheduling of the Commission's reviews and of a public hearing to be held in connection therewith was given by posting copies of the notice in the Office of the Secretary, U.S. International Trade Commission, Washington, DC, and by publishing the notice in the Federal Register on April 13, 2012 (77 FR 22344). The hearing was held in Washington, DC, on September 5, 2012, and all persons who requested the opportunity were permitted to appear in person or by counsel.

The Commission transmitted its determinations in these reviews to the Secretary of Commerce on October 24, 2012. The views of the Commission are contained in USITC Publication 4354 (October 2012), entitled Silicomanganese from Brazil, China, and Ukraine: Investigation Nos. 731-TA-671-673 (Third Review).

Issued: October 26, 2012.
By order of the Commission.
Lisa R. Barton,
Acting Secretary to the Commission.

[FR Doc. 2012-26747 Filed 10-30-12; 8:45 am]

BILLING CODE 7020-02-P